DEPARTMENT OF HEALTH AND HUMAN SERVICES

Administration for Children and Families

Proposed Information Collection Activity; 45 CFR 303.7—Provision of Services in Intergovernmental IV-D; Federally Approved Forms (OMB #0970-0085)

AGENCY: Office of Child Support Enforcement; Administration for Children and Families; HHS

ACTION: Request for Public Comment.

SUMMARY: This is a revision to an existing data collection which expires December 31, 2019. This data collection consists of 13 intergovernmental forms used by states and other entities to process intergovernmental child support cases. This request is for minor revisions to the approved forms.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street, SW, Washington, DC 20201, Attn: OPRE Reports Clearance Officer. All requests, emailed or written, should be identified by the title of the information collection.

SUPPLEMENTARY INFORMATION:

Description: Public Law 104-193, the Personal Responsibility and Work Opportunity Reconciliation Act of 1996, amended 42 U.S.C. 666 to require State Child Support Enforcement (CSE) agencies to enact the Uniform Interstate Family Support Act (UIFSA) into State law by January 1, 1998. Section 311(b) of UIFSA requires the States to use forms mandated by Federal law. 45 CFR 303.7(a)(4) also requires child support programs to use federally-approved forms in intergovernmental IV-D cases unless a country has provided alternative forms.

Proposed changes to the forms include updates for clarification and consistency to the instructions on all of the forms. Additional changes include:

• On the Child Support Enforcement Transmittal #3—Request for Assistance/Discovery, the addition of a new case processing action to facilitate payment processing for a direct Income Withholding Order, and the revision of the payment forwarding action.

• On the Declaration in Support of Establishing Parentage, the revision of the declaration signature section to make it consistent with the General Testimony and more flexible for cases involved children in foster care.

Respondents: State agencies administering a child support program under title IV-D of the Social Security Act.

Annual Burden Estimates
Instrument | Number of respondents | Number of responses per respondent | Average burden hours per response | Total burden hours
Transmittal #1—Initial Request | 54 | 18,246 | 0.17 | 167,498
Transmittal #1—Initial Request Acknowledgement * | 54 | 18,246 | 0.05 | 49,264
Transmittal #2—Subsequent Action | 54 | 13,685 | 0.08 | 59,119
Transmittal #3—Request for Assistance/Discovery | 54 | 2,737 | 0.08 | 11,824
Uniform Support Petition | 54 | 7,298 | 0.05 | 19,705
General Testimony | 54 | 7,298 | 0.33 | 130,050
Declaration in Support of Establishing Parentage | 54 | 2,737 | 0.15 | 22,170
Child Support Locate Request | 54 | 182 | 0.05 | 491
Notice of Determination of Controlling Order | 54 | 2 | 0.25 | 27
Letter of Transmittal Requesting Registration | 54 | 10,948 | 0.08 | 47,295
Personal Information Form for UIFSA § 311 * | 54 | 7,298 | 0.05 | 19,705
Child Support Agency Confidential Information Form * | 54 | 21,895 | 0.05 | 59,117
Request for Change of Support Payment Location Pursuant to UIFSA 319(b) * | 54 | 91 | 0.05 | 246
Estimated Total Annual Burden Hours: |  |  |  | 586,511

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR 303.7.

Mary B. Jones,
ACF/OPRE Certifying Officer.

[FR Doc. 2019-12794 Filed 6-17-19; 8:45 am]

BILLING CODE 4184-41-P